DEPARTMENT OF THE TREASURY

Internal Revenue Service

26 CFR Part 1

[REG-209377-89]

RIN 1545-BA69

At-Risk Limitations; Interest Other Than That of a Creditor; Correction

AGENCY: Internal Revenue Service (IRS), Treasury.

ACTION: Correction to notice of proposed rulemaking.

SUMMARY: This document contains a correction to a notice of proposed rulemaking relating to the treatment, for purposes of the at-risk limitations, of amounts borrowed from a person who has an interest in an activity other than that of a creditor or from a person related to a person (other than the borrower) with such an interest.

FOR FURTHER INFORMATION CONTACT: Tara P. Volungis (202) 622-3080 (not a toll-free number).

SUPPLEMENTARY INFORMATION:

Background

The proposed regulations that are the subject of this correction are under section 465 of the Internal Revenue Code.

Need for Correction

As published, the proposed regulations REG-209377-89, contains an error that may prove to be misleading and is in need of clarification.

Correction of Publication

Accordingly, the publication of the proposed regulations REG-209377-89, which is the subject of FR Doc. 03-17090, is corrected as follows:

1. On page 40583, column 3, in the preamble, under the paragraph heading For Further Information Contact paragraph 1, lines 4 and 5, the language “requests for a public hearing, [Insert Name], 202-622-7180 (not toll-free” is corrected to read “requests for a public hearing, Sonya Cruse, 202-622-4693 (not toll-free”.

Cynthia E. Grigsby,
Chief, Regulations Unit, Associate Chief Counsel (Procedure and Administration).

[FR Doc. 03-20666 Filed 8-12-03; 8:45 am]

BILLING CODE 4830-01-P